DEPARTMENT OF COMMERCE

International Trade Administration

[A-570-601]

Tapered Roller Bearings and Parts Thereof, Finished and Unfinished, From the People's Republic of China: Rescission, in Part, of Antidumping Duty Administrative Review; 2017-2018

AGENCY: Enforcement and Compliance, International Trade Administration, United States Department of Commerce.

SUMMARY: On August 10, 2018, the Department of Commerce (Commerce) initiated an administrative review of the antidumping duty order on tapered roller bearings and parts thereof, finished and unfinished (TRBs) from the People's Republic of China (China) for 14 companies. Based on timely withdrawal of requests for review, we are now rescinding this administrative review with respect to 10 of these companies.

DATES: Applicable November 19, 2018.

FOR FURTHER INFORMATION CONTACT: Andrew Medley or Alex Wood, AD/CVD Operations, Office II, Enforcement and Compliance, International Trade Administration, U.S. Department of Commerce, 1401 Constitution Avenue NW, Washington, DC 20230; telephone: (202) 482-4987 or (202) 482-1959, respectively.

SUPPLEMENTARY INFORMATION:

Background

In June 2018, Commerce received multiple timely requests to conduct an administrative review of the antidumping duty order on TRBs from China. Based upon these requests, on August 10, 2018, in accordance with section 751(a) of the Tariff Act of 1930, as amended (the Act), Commerce published a notice of initiation of an administrative review covering the period June 1, 2017, through May 31, 2018, with respect to 14 companies.¹ In August and September, 2018, the following companies withdrew their requests for an administrative review: Changshan Peer Bearing Co., Ltd. (CPZ/SKF); CNH Industrial Italia SpA (CNH); GGB Bearing Technology (Suzhou) Co., Ltd. (GGB); GSP Automotive Group Wenzhou Co., Ltd. (GSP); Hangzhou Hanji Auto Parts Co., Ltd. (Hanji Auto); Hangzhou Radical Energy-Saving Technology Co., Ltd. (Hangzhou Radical); Ningbo Xinglun Bearings Import & Export Co., Ltd. (Xinglun Bearings); Shanghai General Bearing Co., Ltd (SGBC); Zhejiang Machinery Import & Export Corp. (Zhejiang Machinery); and Zhejiang Zhaofeng Mechanical and Electronic Co., Ltd. (Zhaofeng).

¹ See Initiation of Antidumping and Countervailing Duty Administrative Reviews, 83 FR 39688 (August 10, 2018). See also Initiation of Antidumping and Countervailing Duty Administrative Reviews, 83 FR 45596, 45603 (September 10, 2018), correcting the spelling of one company name.

Partial Rescission

Pursuant to 19 CFR 351.213(d)(1), Commerce will rescind an administrative review, in whole or in part, if a party who requested the review withdraws the request within 90 days of the date of publication of notice of initiation of the requested review. CNH, CPZ/SKF, GGB, GSP, Hanji Auto, Hangzhou Radical, SGBC, Xinglun Bearings, Zhaofeng, and Zhejiang Machinery timely withdrew their requests for an administrative review of themselves. No other party requested a review of these 10 companies. Accordingly, we are rescinding this review, in part, with respect to these companies, pursuant to 19 CFR 351.213(d)(1).

The instant review will continue with respect to the following companies: Hangzhou Xiaoshan Dingli Machinery Co., Ltd.; Shandong Aokai Bearing Co., Ltd.; Taizhou Zson Bearing Technology Co., Ltd.; and Zhejiang Jingli Bearing Technology Co., Ltd.

Assessment

Commerce will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). Commerce intends to issue appropriate assessment instructions to CBP 15 days after publication of this notice.

Notification to Importers

This notice serves as a reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751 and 777(i)(1) of the Act, and 19 CFR 351.213(d)(4).

Dated: November 14, 2018.
James Maeder,
Associate Deputy Assistant Secretary for Antidumping and Countervailing Duty Operations performing the duties of Deputy Assistant Secretary for Antidumping and Countervailing Duty Operations.

[FR Doc. 2018-25146 Filed 11-16-18; 8:45 am]

BILLING CODE 3510-DS-P